DEPARTMENT OF HEALTH AND HUMAN SERVICES

National Institutes of Health

Office of Dietary Supplements 2010-2014 Strategic Plan

ACTION: Notice of Opportunity for Public Comment and Public Meetings.

SUMMARY: The Office of Dietary Supplements (ODS) at the National Institutes of Health (NIH) has initiated a strategic planning process that will culminate in the ODS Strategic Plan for 2010-2014. To assist with this process, the ODS requests input from research communities—academic, government, and industry—and from other interested parties. The overall purpose of the strategic planning effort is to identify both new opportunities and emerging needs for incorporation in the programmatic efforts of the Office. A background paper has been prepared, A Report to the Public, that summarizes progress in four key areas of ODS activity. The background paper and related information are available on the ODS Web site at http://ods.od.nih.gov/strategicplan.

Public comment can be sent directly to ODS or through the public Webinars ODS will hold on January 29, 2009, February 3, 2009, February 11, 2009, and February 19, 2009. The section on Public Participation (below) gives details for the Webinars.

DATES: In order to ensure full consideration, all responses must be submitted by midnight, March 31, 2009.

ADDRESSES: Interested individuals and organizations should submit their responses to ODSplan@od.nih.gov.

FOR FURTHER INFORMATION CONTACT: Julia B. Freeman, Ph.D., Office of Dietary Supplements, National Institutes of Health, 6100 Executive Boulevard, Room 3B01, Bethesda, MD 20892-7517, Phone: 301-496-0187, Fax: 301-480-1845, E-mail: ODSplan@od.nih.gov.

SUPPLEMENTARY INFORMATION:

Background

The mission of the Office of Dietary Supplements (ODS) is to strengthen knowledge and understanding of dietary supplements by evaluating scientific information, stimulating and supporting research, disseminating research results, and educating the public to foster an enhanced quality of life and health for the U.S. population. The ODS was established in the Office of the Director, NIH, in 1995 as a major provision of the Dietary Supplement Health and Education Act of 1994 (DSHEA). A key early activity was the development of the Strategic Plan for 1998-2003 to set out goals for program development. The Strategic Plan was prepared with considerable input from NIH Institutes and Centers, other Federal Agencies, consumers, and other interested parties. The original five-year plan was revised for 2004-2009.

The five strategic goals for ODS have been:

1. Expand the evaluation of the role of dietary supplements in disease prevention and in reduction of risk factors associated with disease.

2. Foster research that evaluates the role of dietary supplements in maintaining and improving optimal physical and mental health and performance.

3. Stimulate and support research to further understanding of the biochemical and cellular effects of dietary supplements on biological systems and their physiological impact across the life cycle.

4. Promote and support the development and improvement of methodologies appropriate to the scientific study of dietary supplement ingredients.

5. Expand and conduct outreach efforts that inform and educate the public, health care providers, and scientists about the benefits and risks of dietary supplements.

ODS is re-examining its Strategic Plan and desires public comment on the progress of its programs and on future needs and opportunities for program activities. A background paper, A Report to the Public, has been prepared that summarizes progress in four key areas of ODS activities. ODS solicits comments on and suggestions for its future activities. The background paper and related information are available on the ODS Web site at http://ods.od.nih.gov/strategicplan. Guidance is being requested from all interested parties on these important issues.

• Are the current strategic goals adequate?

• Is ODS meeting its stakeholders' needs?

• In the future, should some of ODS's current programs or activities be given higher (or lower) priority?

• How can ODS more effectively provide useful information to the ODS user community, including consumers, investigators, practitioners, industry, media, policy makers, government, and other interested parties?

Public Participation

ODS will hold a series of four Webinars at the times and topics listed below to hear comments on and suggestions for ODS initiatives for possible inclusion in the 2010-2014 ODS Strategic Plan. The topic is taken from the four areas described in the background paper, A Report to the Public. Each Webinar will begin with brief comments by a Federal partner and a stakeholder on the topic of that Webinar. The remainder of each Webinar will be devoted to hearing public comments.

Research Support—Thursday, January 29, 2009, 1-2 p.m. EST.

Research support is through cofunding of NIH grants, including botanical research centers, individual research grants, training, and conferences.

Research Tools—Tuesday, February 3, 2009, 2-3 p.m. EST.

Research tools refers to the promotion and support for the development and improvement of methodologies appropriate to the scientific study of dietary supplement ingredients, including analytic methodologies and reference materials, surveys of dietary supplement use, databases to analyze survey results, and evidence-based reviews of key dietary supplements.

Science-Policy—Wednesday, February 11, 2009, 1-2 p.m. EST.

Science-policy covers current ODS collaborations to collect information on scientific issues that is needed for policy discussions. Three current collaborations include the vitamin D initiative, the use of dietary supplements by military personnel, and nutrient reference intake values.

Communications—Thursday, February 19, 2009, 2-3 p.m. EST.

Communications includes outreach and education on dietary supplements through the ODS Web site and information developed by fact sheets, newsletters, and through databases on scientific literature and research on dietary supplements.

The Webinars are open to the public with attendance limited by individual access to the Internet and a phone and by the availability of open teleconference phone lines. Members of the public who wish to make an oral comment should indicate this when registering for the meeting. Instructions for registering can be found on the ODS Web site: http://ods.od.nih.gov/strategicplan.

Oral comments will be limited to three minutes and may be accompanied by a PowerPoint presentation provided that the presentation is submitted no later than 2 days before the scheduled Webinar. Individuals who register to speak will be assigned in the order in which they registered. Due to time constraints, only one representative from each organization will be allotted time for oral presentation. If time permits, those who wish to make a brief oral statement and have not pre-registered to make a comment, will be able to do so.

Archives of the Webinars will be posted on the ODS Web site and may be viewed at any time. We encourage individuals unable to participate in a live Webinar and all interested parties to send written comments by mail, fax, or electronically (see CONTACT INFORMATION, above.) When mailing or faxing written comments, please provide, if possible, an electronic version via e-mail.

Dated: November 10, 2008.
Paul M. Coates,
Director, Office of Dietary Supplements, Office of the Director, National Institutes of Health.

[FR Doc. E8-27791 Filed 11-21-08; 8:45 am]

BILLING CODE 4140-01-P